DEPARTMENT OF TRANSPORTATION

Federal Aviation Administration

Membership in the National Parks Overflights Advisory Group

AGENCY: Federal Aviation Administration.

ACTION: Notice.

SUMMARY: The National Park Service (NPS) and Federal Aviation Administration (FAA) in accordance with the National Parks Air Tour Management Act of 2000, established the National Parks Overflights Advisory Group (NPOAG). The NPOAG was formed to provide continuing advice and counsel with respect to commercial air tour operations over and near national parks. This notice informs the public of the desire to expand the advisory group and delineates the nomination procedures.

FOR FURTHER INFORMATION CONTACT: Howard Nesbitt, Flight Standards Service, Federal Aviation Administration, 800 Independence Ave., SW, Washington, DC 20591, telephone: (202) 493-4981, or Marvin Jensen, Soundscapes Office, National Park Service, 1201 Oak Ridge Drive, Suite 200, Ft. Collins, Colorado 80525, telephone: (970) 225-3563. Persons interested in serving on the advisory group should contact Mr. Nesbitt or Mr. Jensen on or before October 16, 2001.

SUPPLEMENTARY INFORMATION:

Background

The National Parks Air Tour Management Act of 2000 (the Act) was enacted on April 5, 2000, as Public Law 106-181. The Act required the establishment of the advisory group within 1 year after its enactment. The advisory group is comprised of a balanced group of representatives of general aviation, commercial air tour operations, environmental concerns, and Native American tribes. The Administrator and the Director (or their designees) serve as ex officio members of the group. Representatives of the Administrator and Director serve alternating 1-year terms as chairman of the advisory group. The Administrator's representative will serve the first term, which will terminate at the end of the calendar year following the year in which the advisory group is established.

The advisory group provides “advice, information, and recommendations to the Administrator and the Director—

(1) on the implementation of this title [the Act] and the amendments made by this title;

(2) on commonly accepted quiet aircraft technology for use in commercial air tour operations over a national park or tribal lands, which will receive preferential treatment in a given air tour management plan;

(3) on other measures that might be taken to accommodate the interests of visitors to national parks; and

(4) at the request of the Administrator and the Director, safety, environmental, and other issues related to commercial air tour operations over a national park or tribal lands.”

Members of the advisory group may be allowed certain travel expenses as authorized by section 5703 of title 5, United States Code, for intermittent Government service.

An initial assignment was made to the group of seven members representing aviation, environmental and Native American cultural interests. At the first meeting of the group, on August 28, 2001, the group decided that the addition of three new members would achieve a better balance of interests representing the group. The additional members would represent fixed wing air tour operators, environmental interests and Native American cultural interests.

Public Participation in the Advisory Group

The FAA and NPS invite members of the public from the desired areas, who are interested in serving on the advisory group, to contact the person listed under FOR FURTHER INFORMATION CONTACT. Requests to participate should be made in writing and postmarked on or before October 16, 2001. The request should indicate whether or not they are a member or an official of a particular interest group. The request should also state whether they are proposing to represent fixed wing air tours, environmental, or Native American cultural interests and what expertise they would bring to either of these interest areas while serving on the group. Those individuals or groups previously submitting nominations need not resubmit. The term of service of advisory group members will be three years.

Issued in Washington, DC on September 19, 2001.
Nicholas A. Sabatini,
Director, Flight Standards Service.

[FR Doc. 01-23945 Filed 9-24-01; 8:45 am]

BILLING CODE 4910-13-M